DEPARTMENT OF DEFENSE

Department of the Navy

Notice of Intent To Prepare a Supplemental Environmental Impact Statement for the Guam and Commonwealth of the Northern Mariana Islands Military Relocation (2012 Roadmap Adjustments) and Notice of Public Scoping Meetings

AGENCY: Department of the Navy, DoD.

ACTION: Notice.

SUMMARY: Pursuant to Section 102(2)(c) of the National Environmental Policy Act (NEPA) of 1969, as implemented by the Council on Environmental Quality Regulations (40 CFR parts 1500-1508), the Department of the Navy (DoN) announces its intent to expand the scope of the ongoing Supplemental Environmental Impact Statement (SEIS) for a live-fire training range complex on Guam to evaluate the potential environmental consequences from construction and operation of a main cantonment area, including family housing, and associated infrastructure on Guam to support the relocation of a substantially reduced number of Marines than previously analyzed. This SEIS will supplement the Final EIS for the “Guam and Commonwealth of the Northern Mariana Islands Military Relocation; Relocating Marines from Okinawa, Visiting Aircraft Carrier Berthing, and Army Air and Missile Defense Task Force” dated July 2010.

Pursuant to 40 CFR 1502.9(c), the SEIS is being prepared for the limited purpose of supplementing the 2010 Final EIS regarding the establishment of a live-fire training range complex, a main cantonment area, including family housing, and associated infrastructure on Guam.

The purpose and need for the proposed action is to ensure that the relocated Marines are organized, trained, and equipped as mandated in Section 5063 of Title 10 of the U.S. Code, to satisfy individual live-fire training requirements as described in the Final EIS and associated Record of Decision (ROD), and to establish an operational U.S. Marine Corps (USMC) presence in Guam in accordance with April 2012 adjustments to the May 2006 United States-Japan Roadmap for Realignment Implementation (Roadmap).

The proposed action that will be analyzed in the SEIS is to construct and operate a live-fire training range complex on Guam that allows for simultaneous use of all firing ranges to support training and operations of the relocated Marines, and a main cantonment area of sufficient size and layout to provide military support functions, including family housing. The proposed action also includes the construction of utilities and infrastructure to support the range complex, main cantonment, and housing.

The live-fire training range complex will consist of a Known Distance (KD) rifle range, a KD pistol range, a Modified Record of Fire Range, a nonstandard small arms range, a Multipurpose Machine Gun (MPMG) range, and a hand grenade range. The main cantonment area will provide military support functions (also known as base operations and support) to the relocated Marines. Such functions include, but are not limited to, headquarters and administrative support, bachelor housing, family housing, supply, maintenance, open storage, community support (e.g., retail, education, recreation, medical, and day care), some site-specific training, and open space (e.g., parade grounds, open training areas, and open green space in communities). The proposed action also includes the utilities and infrastructure required to support the range, cantonment, and housing areas.

The DoN has identified seven (7) preliminary alternative locations for the live-fire training range complex: Two are adjacent to Route 15 in northeastern Guam, three are located at or immediately adjacent to the Naval Magazine (NAVMAG), also known as the Naval Munitions Site, one is located at Andersen Air Force Base (AAFB) Northwest Field in northern Guam, and one is located at Naval Computer and Telecommunications Station (NCTS) Finegayan on the northwest coast of Guam. The DoN has identified five (5) preliminary alternatives for the main cantonment/family housing: AAFB, NCTS Finegayan, NCTS Finegayan (main cantonment)/South Finegayan Navy Housing (family housing), Navy and Air Force Barrigada in the central area of Guam, and Naval Base Guam in the Apra Harbor area.

The preliminary alternatives may continue to evolve as the DoN considers public and regulatory agency input through the NEPA process. For example, the DoN is currently working with the Federal Aviation Administration (FAA) to determine whether airspace impacts would render an otherwise preliminary alternative untenable. Should the FAA conclude that an alternative's conflicts with existing airspace are unmitigatable, that preliminary alternative would not be carried forward for evaluation in the SEIS.

The DoN encourages government agencies, private-sector organizations, and the general public to participate in the NEPA process for the SEIS. The DoN has invited the U.S. Air Force, the FAA, the U.S. Fish and Wildlife Service, the U.S. Department of Agriculture, the Federal Highway Administration, Environmental Protection Agency Region 9, and the Office of Insular Affairs in the U.S. Department of the Interior to participate as cooperating agencies in the preparation of the SEIS.

The DoN invites comments on the expanded proposed scope and content of the SEIS from all interested parties. Comments on the scope of the SEIS may be provided by mail and through the SEIS Web site at: http://guambuildupeis.us. In addition, the DoN will conduct open-house style public scoping meetings on Guam to obtain comments on the scope of the SEIS and to identify specific environmental concerns or topics for consideration in the SEIS. Meetings will be held at the following locations and times: Thursday, November 8, 2012, from 5 p.m. to 8 p.m., Bldg. 4175 (Old McCool School) Gym/Cafeteria, Santa Rita, Guam; Friday, November 9, 2012, from 5 p.m. to 8 p.m., Okkodo High School, Dededo, Guam; and Saturday, November 10, 2012, from 12 p.m. to 3 p.m., University of Guam Field House, Mangilao, Guam.

Interested agencies, individuals, and groups unable to attend the open-house public scoping meetings are encouraged to submit comments by December 10, 2012, Chamorro Standard Time (ChST). Mailed comments should be postmarked no later than December 10, 2012, ChST to ensure they are considered. Mail comments to: Joint Guam Program Office Forward, P.O. Box 153246, Santa Rita, Guam 96915.

FOR FURTHER INFORMATION CONTACT: Mr. Todd Spitler, Communications Director, Joint Guam Program Office, phone 703-602-4728. On Guam, please contact Major Darren Alvarez, Joint Guam Program Office Forward, phone 671-339-3337.

SUPPLEMENTARY INFORMATION: The DoN's proposed action is to construct and operate a live-fire training range complex, a main cantonment area, including family housing, and associated infrastructure in support of the Guam Military Relocation.

Background

A ROD for the Final EIS was signed on September 20, 2010 (75 FR 60438, September 30, 2010). The ROD deferred a decision on the specific site for a live-fire training range complex. Regarding the establishment of the main cantonment area, the ROD selected an area utilizing Department of Defense (DoD)-owned lands at NCTS Finegayan and South Finegayan Navy Housing and acquiring land known as the former FAA parcel. The Final EIS identified this total area as the Preferred Alternative for establishment of the main cantonment area.

In the months following the issuance of the ROD, the DoN made adjustments with regards to the live-fire training range complex, including application of probabilistic modeling that shrank the overall footprint of the MPMG range. DoN also formally committed that if the Route 15 area was selected for the live-fire training range complex, DoN would provide for 24 hours a day, 7 days a week access to Pagat Village and Pagat Cave historical sites, to include the trail leading to both.

Faced with this new information, the DoN initially elected to prepare a SEIS limited solely to the evaluation of impacts associated with the location, construction, and operation of the live-fire training range complex. The DoN issued its Notice of Intent (NOI) to prepare the SEIS in February 2012 (77 FR 6787, February 9, 2012). In the NOI, the DoN preliminarily identified five alternatives for the range complex: Two were adjacent to Route 15 in northeastern Guam, and three were located at or immediately adjacent to the NAVMAG. Public scoping meetings were conducted for the SEIS in March 2012, and the public scoping comment period closed on April 6, 2012.

Shortly after the close of the public comment period, on April 27, 2012, the U.S.-Japan Security Consultative Committee (SCC) issued a joint statement announcing its decision to adjust the plans outlined in the May 2006 Realignment Roadmap. In accordance with the SCC's adjustments, the DoD adopted a new force posture in the Pacific providing for a materially smaller force on Guam. Specifically, the adjustments include reducing the originally planned relocation of approximately 8,600 Marines and 9,000 dependents to a force of approximately 5,000 Marines and approximately 1,300 dependents on Guam. That decision prompted the DoN's review of the major actions previously planned for Guam and approved in the September 2010 ROD. This review concluded that while some actions remain unchanged as a result of the smaller force size, others, such as the main cantonment and family housing areas, could significantly change as a result of the modified force. The DoN has opted to issue a new NOI and amend the scope of the ongoing SEIS to add those actions that may materially change as a result of the new force posture.

Range of Preliminary Alternatives

The proposed reduction in the size of the new force structure does not affect all of the decisions that were made in the September 2010 ROD. For example, the relocation of the Marine Corps Aviation Combat Element facilities to AAFB, the development of the North Gate and access road at AAFB, the establishment of training ranges on Tinian, Apra Harbor wharf improvements, and the non-live-fire training ranges on Andersen South remain unaffected by the changes in force structure resulting from the April 2012 Roadmap adjustments. These actions will occur no matter where on Guam the main cantonment and family housing areas and live-fire training range complex are situated. The potential environmental effects of these actions were fully and accurately considered and analyzed in the 2010 Final EIS. For those decisions that are not affected by the new force structure, the September 2010 ROD stands as the final agency action for those elements. The expanded scope of the SEIS does not include the transient aircraft carrier berthing in Apra Harbor and the Army Air and Missile Defense Task Force.

The reduction in the number of Marines and dependents to be relocated to Guam led to a reduction in the footprint for the main cantonment area, enabling development of new preliminary alternatives to be considered. The possibility of not establishing the main cantonment area at NCTS Finegayan opened that area up for consideration as a new preliminary alternative for the live-fire training range complex. Consideration of public input, refinement of range designs, and a reassessment of operational requirements, conflicts, and opportunities resulted in AAFB Northwest Field being added as a new preliminary range alternative. The number and size of the ranges comprising the live-fire training range complex are unaffected by the April 2012 adjustments to the Roadmap and will remain as described in the 2010 Final EIS. Similarly, the qualification standards have not changed.

The DoN has identified five (5) preliminary alternatives for establishment of the main cantonment/family housing area: AAFB, NCTS Finegayan, NCTS Finegayan (main cantonment)/South Finegayan Navy Housing (family housing), Navy and Air Force Barrigada, and Naval Base Guam.

The SEIS will also consider the No Action Alternative. Under the No Action Alternative, the DoN would continue to implement the September 2010 ROD. The decision to construct and operate the live-fire training range complex would remain deferred, and DoN would establish a main cantonment area for approximately 8,600 Marines and approximately 9,000 dependents on DoD-controlled lands at NCTS Finegayan and South Finegayan and by acquiring land known as the former FAA parcel. Although the No Action Alternative presumes the present course of action identified in the September 2010 ROD, for purposes of assessing the environmental impacts of the proposed alternatives in the SEIS, the DoN will compare the impacts of the proposed action to the baseline conditions identified in the July 2010 Final EIS. Baseline conditions will be updated in the SEIS, as appropriate, if new information is made available. The No Action Alternative is not a reasonable alternative. Foremost, it is inconsistent with the new force posture adopted by the DoD in accordance with the SCC's April 27, 2012 adjustments to the Roadmap, which provide for a materially smaller relocated force on Guam. Furthermore, the No Action Alternative neither satisfies the need for training requirements for the relocated Marines as mandated in Section 5063 of Title 10 the U.S. Code, nor the individual live-fire training requirements as described in the Final EIS and ROD.

The SEIS will evaluate environmental effects associated with: Geology and soils; water resources, which may include surface and ground water, floodplains, wetlands, wild and scenic rivers; terrestrial biology; threatened and endangered species and their designated critical habitat (if applicable); air quality; noise; airspace; cultural resources; socioeconomics; environmental justice (minority and low income populations and children); land use and coastal zone management federal consistency; utilities, transportation; hazardous materials/hazardous waste/installation restoration; public health and safety; and other environmental concerns as identified through scoping. The analysis will include an evaluation of direct and indirect impacts, and will account for cumulative impacts from other relevant activities in the area of Guam. Additionally, the DoN will undertake any consultations required by all applicable laws or regulations.

No decision will be made to implement any alternative until the SEIS process is completed and a ROD is signed by the Assistant Secretary of the Navy (Energy, Installations and Environment) or her/his designee.

By publishing this Notice, the DoN is initiating a scoping process to identify community concerns and issues that should be addressed in the SEIS. Federal, Territorial, and local agencies, and interested parties and persons are encouraged to provide comments on the proposed action that clearly describe specific issues or topics of environmental concern that the commenter believes the DoN should consider. Additional information will be posted on the project web site as it becomes available.

Comments may be submitted in writing at one of the public scoping meetings, through the project web site at: http://guambuildupeis.us, or may be mailed to: Joint Guam Program Office Forward, P.O. Box 153246, Santa Rita, Guam, 96915.

To ensure consideration, all written comments on the scope of the SEIS must be submitted or postmarked by December 10, 2012, ChST.

Dated: October 4, 2012.
C.K. Chiappetta,
Lieutenant Commander, Office of the Judge Advocate General, U.S. Navy, Federal Register Liaison Officer.

[FR Doc. 2012-24972 Filed 10-10-12; 8:45 am]

BILLING CODE 3810-FF-P